DEPARTMENT OF THE INTERIOR

National Park Service

National Register of Historic Places; Notification of Pending Nominations

Nominations for the following properties being considered for listing in the National Register were received by the National Park Service before May 17, 2003. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by June 23, 2003.

Carol D. Shull,
Keeper of the National Register of Historic Places.

ILLINOIS

Pike County

Shastid, John, House, 326 East Jefferson, Pittsfield, 03000579.

MARYLAND

Baltimore Independent City

Baltimore City College, 3320 The Alameda, Baltimore (Independent City), 03000573.

MASSACHUSETTS

Norfolk County

Blue Hills Parkway, (Metropolitan Park System of Greater Boston MPS) Blue Hills Parkway, Boston, 03000574.

Quincy Shore Drive, (Metropolitan Park System of Greater Boston MPS) Quincy Shore Drive, Quincy, 03000575.

MINNESOTA

Meeker County

Pipe Lake Fort, Address Restricted, Cosmos, 03000576.

NEW YORK

New York County

69th Street Transfer Bridge, Hudson River W of the West Side Highway bet. W 66th and 70th Sts., New York, 03000577.

WISCONSIN

Dane County

American Tobacco Company Warehouses Complex, 651 W. Doty St., Madison, 03000580.

Winnebago County

Riverside Cemetery, 1901 Algoma Blvd., Oshkosh, 03000578.

WYOMING

Park County

UXU Ranch, (Dude Ranches along the Yellowstone Highway in the Shoshone National Forest) 1710 N. Fork Highway, Shoshone National Forest, Wapiti, 03000581.

[FR Doc. 03-14317 Filed 6-5-03; 8:45 am]

BILLING CODE 4312-51-P